ENVIRONMENTAL PROTECTION AGENCY

40 CFR Part 52

[Docket 24-7004; FRL-6540-3]

Federal Rulemaking for the FMC Facility in the Fort Hall PM-10 Nonattainment Area

AGENCY: Environmental Protection Agency (EPA).

ACTION: Proposed rule; announcement of public hearings and extension of public comment deadline; correction.

SUMMARY: By this action, we are announcing the date, time, and location of two public hearings that EPA will hold to accept oral comments on EPA's supplemental proposal for the Federal Rulemaking for the FMC Facility in the Fort Hall PM-10 Nonattainment Area. We are also extending the deadline for receiving written comments on the supplemental proposal from February 28, 2000, to March 13, 2000. Finally, we are correcting a minor error in the location of the docket.

DATES: Written comments, identified by the docket control number ID 24-7004, must be received by EPA on or before March 13, 2000. EPA will hold public hearings at the following times at the addresses listed below: Tuesday, February 29, 2000, 6:00 p.m. to 8:00 p.m., and Wednesday, March 1, 2000, 6:00 p.m. to 8:00 p.m.

ADDRESSES: Comments should be submitted (in triplicate if possible) to: Christine Lemme, Environmental Protection Agency, Office of Air Quality (OAQ-107), 1200 Sixth Avenue, Seattle Washington 98101.

FOR FURTHER INFORMATION CONTACT: Steven K. Body, Office of Air Quality (OAQ-107), Environmental Protection Agency, 1200 Sixth Avenue, Seattle, Washington 98101, (206) 553-0782.

SUPPLEMENTARY INFORMATION: On January 27, 2000, we solicited public comment on a supplemental proposal for the Federal Rulemaking for the FMC Facility in the Fort Hall PM-10 Nonattainment Area (65 FR 4466).¹ In that supplemental proposal, we stated that we would accept written public comments on the supplemental proposal until February 28, 2000. We also stated that we would not hold a public hearing on the supplemental proposal unless one was requested and a sufficient reason for holding a hearing was provided.

¹ The supplemental proposal proposed to revise certain aspects of the original proposal published in the Federal Register on February 12, 1999 (64 FR 7308).

Based on letters we received prior to publication of the supplemental proposal, we believe there is a significant public interest in the supplemental proposal. We have therefore decided to hold public hearings on the supplemental proposal in advance of a specific request during the public comment period. The public hearings will be held on:

Tuesday, February 29, 2000, 6:00 p.m. to 8:00 p.m., Pocatello City Council Chambers, 711 North 9th, Pocatello, Idaho

Wednesday, March 1, 2000, 6:00 p.m. to 8:00 p.m., Shoshone-Bannock Tribal Council Chambers, Agency Road and Bannock Drive, Fort Hall, Idaho

To accommodate the public hearings, we are also extending the deadline for receiving written public comments on the supplemental proposal to March 13, 2000. Interested persons are invited to attend the public hearings and to comment on all aspects of EPA's supplemental proposal. The January 27, 2000, supplemental notice also stated that the docket for the supplemental proposal is available for public inspection at EPA's Central Docket Section, Office of Air and Radiation, Room 1500 (M-6102), 401 M Street, SW., Washington, D.C. 20460; EPA Region 10, Office of Air Quality, 10th Floor, 1200 Sixth Avenue, Seattle, Washington; the Shoshone-Bannock Tribes, Office of Air Quality Program, Land Use Commission, Fort Hall Government Center, Agency and Bannock Roads, Fort Hall, Idaho 83203; the Shoshone-Bannock Library, Pima and Bannock, Fort Hall, Idaho, 83203; and the Idaho State University Library, Government Documents Dept., 850 South 9th Avenue, Pocatello, Idaho. This notice is also to clarify that the full docket is available for review at EPA's Central Docket Section, Office of Air and Radiation; EPA Region 10, Office of Air Quality; and the Shoshone-Bannock Tribes, Office of Air Quality Program, Land Use Commission. Only a copy of the supplemental proposal and a copy of the index to the docket are available for review at the Shoshone-Bannock Library and the Idaho State University Library.

List of Subjects in 40 CFR Part 52

Environmental protection, Air pollution control, Intergovernmental relations, Particulate matter, Reporting and recordkeeping requirements.

Dated: February 9, 2000.
Jane Moore,
Acting Regional Administrator, Region 10.

[FR Doc. 00-4141 Filed 2-18-00; 8:45 am]

BILLING CODE 6560-50-P